DEPARTMENT OF THE INTERIOR

Office of the Secretary; Proposed Agency Information Collection Activities; Comment Request

AGENCY: Office of American Indian Trust, Interior.

ACTION: Notice.

SUMMARY: This notice announces that the Department of the Interior is seeking to renew the information collection request for Evaluation of the performance of trust functions performed by tribes under Self-Governance compacts, OMB Control Number 1076-0146. Under the Paperwork Reduction Act, Federal agencies are required to publish notice in the Federal Register concerning each proposed collection of information, and to allow 60 days for public comment in response to the notice.

DATES: Submit comments on or before April 15, 2002.

ADDRESSES: Send comments to: James I. Pace, Acting Director, Office of American Indian Trust, United States Department of the Interior, 1849 C Street, NW, Room 2472, Washington, DC 20240; Fax No. (202) 208-7503.

FOR FURTHER INFORMATION CONTACT: James I. Pace, (202) 208-3338.

SUPPLEMENTARY INFORMATION: Under the Paperwork Reduction Act of 1995 (44 U.S.C. 3501-3520) (PRA), Federal agencies must obtain approval from the Office of Management and Budget (OMB) for each collection of information they conduct or sponsor. It is also a requirement of the PRA that agencies provide a 60-day notice in the Federal Register concerning each proposed collection of information, including each proposed extension of an existing collection of information, before submitting the collection to OMB for approval. To comply with this requirement, the Department of the Interior, Office of American Indian Trust, is publishing notice of the proposed collection of information listed below.

The Department of the Interior invites comments by the public on: Whether the proposed collection of information is necessary for the proper performance of the functions of the Department, including whether the information will have a practical use; the accuracy of the Department's estimate of the burden of the proposed collection of information, including the validity of the methodology and assumptions used; ways to enhance the quality, usefulness, and clarity of the information to be collected; and minimizing the burden of collection on those who are to respond.

Comments submitted in response to this notice will be summarized and/or included in the request for OMB approval of this information collection. They also will become a matter of public record.

This collection of information will be made to ensure compliance with 25 U.S.C. 458cc(d) which requires that the Secretary of the Interior monitor the performance of trust functions which have been assumed under Self-Governance funding agreements negotiated between the Secretary and an Indian tribe/consortia (hereinafter the respondent).

This information collection addresses those statutory and regulatory performance requirements imposed upon the respondent through the assumption of a particular trust function, through a formal Self-Governance agreement pursuant to the Self-Governance Act (Pub. L. 103-413) which, if not performed properly, may create imminent jeopardy to a trust asset. The information will be used by the Department of the Interior to determine if there is imminent jeopardy to any asset held in trust by the United States for an Indian tribe or individual Indian that are being managed by a tribe/consortium on behalf of the United States pursuant to a Self-Governance agreement.

Currently there are 70 respondents. There is no preliminary work required of the respondents nor any follow-up work required. There are no forms for the respondent to fill out. The annual hour burden is calculated by the amount of time that the reviewer spends at each program site interviewing the respondents and collecting file information. The time required for each information collection is determined by the complexity and size of the program and ranges from 4 person/hours to 80 person/hours. Weighing the size and complexity of the 70 current programs, it has been determined that the average hours spent for each annual evaluation will be approximately 24 person/hours. This number, multiplied by the current number of evaluations, yields a total number of 1,680 person/hours per year for the collection of information for the purposes described herein.

The trust evaluation information collection process has four basic components:

1. Interview Process

Entrance Interview: Each trust evaluation commences with an entrance interview with tribal leadership and senior management. The purpose of this interview is to review generally the programs and functions subject to be evaluated and to clarify the specific nature of the tribe's responsibilities under its annual funding agreement. If specific issues or concerns were raised in the previous evaluation, they may be addressed during this interview as well.

Management Interviews: These interviews are conducted with tribal/consortia program directors and staff on a program-by-program basis. During this process, reviewers collect information pertaining to the respondent's compliance with all relevant statutory, regulatory, and other legal requirements for the management of the particular trust resource or function under review as well as compliance with any special terms and conditions contained in the annual funding agreement. Depending on information provided, reviewers may make additional inquiry with regard to specific programs or functions. Where tribal governments have enacted different or additional regulations or guidelines for the management of trust functions, compliance with these measures will be verified as well. Respondents are also provided the opportunity to address issues of concern during this phase of the process. Interviewers will also elicit relevant data during this phase of the process depending on the nature of the function under review.

Exit Interviews: The exit interview is designed to provide both the respondents and the interviewers the opportunity to clarify any outstanding issues or address particular concerns raised during the review process.

All interviews will be conducted according to a field guide which will provide direction to the reviewers in their performance of this collection.

2. File Review of Trust Transactions

This is a mandatory on-site function to verify information obtained through the review process and check performance on specific trust functions. Files are randomly selected and reviewed to ensure that all necessary and proper documents have been completed and filed and to ensure that all necessary approvals and/or permits have been secured.

3. On-Site Inspection

On-site inspections of trust resources are conducted as appropriate to the resource in question and may include a visit to facilities rather than a visual inspection of particular resources. Typically, on-site inspections are conducted when specific information is needed to complete the review; where there is reason to believe that a problem exists; or it is the type of resource or function that warrants physical inspection.

4. Evaluation Report

A report documenting the process used and information obtained during the evaluation process is produced by the reviewing staff. A first draft is sent to each respondent for comment prior to finalization. Where a respondent disagrees with a finding or information contained in the report, such comment will be attached to the final report. The reports are then signed by the Director of the Office of American Indian Trust and the Assistant Secretary—Indian Affairs and transmitted to the Chairman of the tribe and its Self-Governance Coordinator.

It is a requirement of the Paperwork Reduction Act that each respondent to any information collection be notified that an agency may not conduct or sponsor, and a person is not required to respond to, a collection of information unless it displays a current valid OMB control number pursuant to 35 U.S.C. 3506(c)(1)(B)(V); 44 CFR 1320 8(b)(3)(vii). The valid OMB control number for this information collection is 1076-0146.

Dated: January 25, 2002.
Neal A. McCaleb,
Assistant Secretary—Indian Affairs.

[FR Doc. 02-3673 Filed 2-13-02; 8:45 am]

BILLING CODE 4310-E8-P